DEPARTMENT OF HEALTH AND HUMAN SERVICES

Health Resources and Services Administration

Agency Information Collection Activities: Proposed Collection: Public Comment Request: Information Collection Request Title: Evaluation of the Maternal and Child Health Bureau's Autism CARES Act Initiative, OMB No. 0915-0335-Revision

AGENCY: Health Resources and Services Administration (HRSA), Department of Health and Human Services.

ACTION: Notice.

SUMMARY: In compliance with the requirement for opportunity for public comment on proposed data collection projects of the Paperwork Reduction Act of 1995, HRSA announces plans to submit an information collection request (ICR), described below, to the Office of Management and Budget (OMB). Prior to submitting the ICR to OMB, HRSA seeks comments from the public regarding the burden estimate, below, or any other aspect of the ICR.

DATES: Comments on this ICR must be received no later than May 22, 2023.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the HRSA Information Collection Clearance Officer, at 301-594-4394.

SUPPLEMENTARY INFORMATION: When submitting comments or requesting information, please include the information request collection title for reference.

Information Collection Request Title: Evaluation of the Maternal and Child Health Bureau's Autism CARES Act Initiative, OMB No. 0915-0335-Revision.

Abstract: HRSA's Maternal and Child Health Bureau (MCHB) provides funds to support several programs related to autism, as authorized by 42 U.S.C. 280i-1 (title III, section 399BB of the Public Health Service Act), as amended by the Autism Collaboration, Accountability, Research, Education, and Support (CARES) Act of 2019 (Pub. L. 116-60). The Autism CARES Act of 2019 emphasizes improving health outcomes and the well-being of individuals with Autism Spectrum Disorder and Developmental Disabilities across the lifespan.

MCHB's programs related to autism fall within three distinct but complementary areas—research, state systems, and training. The awards advance research on early screening and interventions for autism and developmental disabilities; improve the capacity of state public health agencies to build and maintain coordinated systems of services for individuals with autism and developmental disabilities; and train the health care workforce to screen, refer, and provide services for children and youth with autism and developmental disabilities. MCHB currently funds 12 programs and 95 awardees. HRSA seeks to implement annual comprehensive evaluations of MCHB's Autism CARES Initiative investments.

This ICR is a revision to an existing package; this study is the fifth evaluation of HRSA's autism activities and employs similar data collection methodologies as the prior studies. Grantee interviews remain the primary form of data collection. Minor proposed revisions to the data collection process include modifications to the interview questions and grantee survey based on the current legislation and HRSA's Notices of Funding Opportunity for programs authorized under the Autism CARES Act. In addition, the previous data collection compiled survey responses from all grantees, whereas this revised data collection will only seek survey responses from the Research and State Systems grantees. The previous data collection also included a quantitative data collection form for the Research grantees that the current data collection will not collect. These changes result in fewer burden hours estimated across all primary data collection activities.

Need and Proposed Use of the Information: The purpose of this data collection is to implement a comprehensive evaluation that describes the activities, accomplishments, outcomes, barriers, and challenges of the grant programs in implementing the provisions of the Autism CARES Act. The data will be used to (1) conduct performance monitoring of the programs; (2) provide credible and rigorous evidence of program effectiveness; (3) meet program needs for accountability, decision-making, and quality assurance; and (4) strengthen the evidence base for best practices.

Likely Respondents: The survey respondents will include Principal Investigators/Project Directors from the research programs and networks (Autism Intervention Research Network on Physical Health, Autism Intervention Research Network on Behavioral Health, MCHB Secondary Data Analysis Research Program, Autism Field-Initiated Innovative Research Studies Program, Autism Single Investigator Innovation Program, the Developmental-Behavioral Pediatrics Research Network, and the Healthy Weight Research Network for Children with Autism and Other Developmental Disabilities); and state systems programs (State Innovations) and coordinating center (State Public Health Coordinating Center for Autism). The respondents for the interviews will include Principal Investigators/Project Directors from the research and state systems programs above, and the training programs (Leadership Education in Neurodevelopmental and Related Disabilities program, the Developmental Behavioral Pediatrics program, and the National Interdisciplinary Training Resource Center).

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Grant program/instrument | Number of respondents | Average number of responses per respondent | Total responses | Average burden per response (in hours) | Total hour burden
Research: Survey for individual grantees | 12 | 1 | 12 | 0.5 | 6.0
Research: Survey for research networks | 4 | 1 | 4 | 0.5 | 2.0
Research: Interview guide for individual grantees | 12 | 1 | 12 | 1.5 | 18.0
Research: Interview guide for research networks | 4 | 1 | 4 | 1.5 | 6.0
State Systems: Survey for state innovation grants | 5 | 1 | 5 | 0.5 | 2.5
State Systems: Interview guide for the state innovation grants | 5 | 1 | 5 | 1.5 | 7.5
State Systems: Interview guide for the state coordinating center | 1 | 1 | 1 | 1.5 | 1.5
Training: Interview guide for the individual training grantees | 72 | 1 | 72 | 1.5 | 108.0
Training: Interview Guide for the Resource Center | 1 | 1 | 2 | 1.5 | 3.0
Total | 116 |  | 116 |  | 154.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-05747 Filed 3-20-23; 8:45 am]

BILLING CODE 4165-15-P